DEPARTMENT OF COMMERCE

International Trade Administration

U.S. Microelectronics Trade Mission

AGENCY: International Trade Administration, Department of Commerce.

ACTION: Notice to U.S. Microelectronics Trade Mission to Shanghai, China, March 14-17, 2005.

SUMMARY: The United States Department of Commerce, International Trade Administration, U.S. Commercial Service, Office of Global Trade Programs is organizing a microelectronics trade mission to China, March 14-17, 2005. This trade mission will take place during the renowned annual Shanghai exhibition Electronica and Productronica China 2005—co-located with SEMICON China. Participating firms will not only have pre-arranged one-on-one meetings scheduled for them by the U.S. Commercial Service in Shanghai, but will also have the opportunity to make additional business contacts at the exhibition. A similar microelectronics mission took place in March 2004.

FOR FURTHER INFORMATION CONTACT: Office of Global Trade Programs; Room 2012; Department of Commerce; Washington, DC 20230; Tel: (202) 482-4457; Fax: (202) 482-0178.

SUPPLEMENTARY INFORMATION: U.S. Microelectronics Trade Mission, Shanghai, China, March 14-17, 2005.

Mission Statement

I. Description Of The Mission

The United States Department of Commerce, International Trade Administration, U.S. Commercial Service, Office of Global Trade Programs is organizing a microelectronics trade mission to China, March 14-17, 2005. This trade mission will take place during the renowned annual Shanghai exhibition Electronica and Productronica China 2005—co-located with SEMICON China. Participating firms will not only have pre-arranged one-on-one meetings scheduled for them by the U.S. Commercial Service in Shanghai, but will also have the opportunity to make additional business contacts at the exhibition. A similar microelectronics mission took place in March 2004.

Trade mission participants will include representatives from U.S. firms specializing in microelectronics design, manufacturing, and distribution, including semiconductor devices, integrated circuit design services, semiconductor manufacturing equipment, clean room equipment, and electronics packaging/interconnects.

II. Commercial Setting for the Mission

Microelectronics design, manufacturing, and distribution make the foundation for the rapid growth of e-commerce, web-enabled technologies, and wireless technologies that will be the major business prospects in the 21st century in Asia. Representing one of the largest and fastest growing information technology (IT) markets in the world, China's electronics sector and IT industry are expected to grow at an annual rate of 25 percent. The Chinese Government is strongly committed to the development of a domestic microelectronics industry to enable the adoption of IT nationwide and to improve economic productivity. China's tenth Five-Year Plan (2001-2005) addresses the development of the country's information industry (including microelectronics). These development trends indicate that China is emerging as a new and strong production base for electronic and IT products in Asia. With this rapid growth in the IT sector, China is forced to build its strong microelectronics industry primarily on imports and investment from foreign suppliers. Shanghai, Beijing, and Hong Kong are among the cities that lead China's IT industry growth.

III. Goals for the Mission

The goal is to assist U.S. microelectronics industry's small- to medium-sized enterprises (SMEs) in attaining their export business objectives in the Chinese market through participation in this trade mission, which will be centered around a major exhibition. Mission participants will gain first-hand market exposure; meet with government decision makers and potential agents, distributors, and business partners from the private sector; and obtain information that will help them position themselves to take advantage of the strong business opportunities in China's microelectronics market.

IV. Scenario for the Mission

The mission will focus primarily on Shanghai. The schedule includes site visits, and briefings by the U.S. and Chinese governments. The purpose of the site visits will be to provide a broad vision of the Chinese electronics/semiconductor industry, which will help the participants to better understand the Chinese market. China government briefings will bring the participants into the government's presence and acquaint them with trade opportunities available to them from the Chinese government's perspective. A SEMICON forum, which all of the participants will be invited to attend, will also be on the agenda. The dates of the trade exhibition are March 15-17. The U.S. Commercial Service in Shanghai will set aside time for pre-arranged individual business meetings for the mission participants. In addition, the participants will have the opportunity to conduct business with exhibitors at the show, as well as display company literature in a booth at the exhibition. No other types of exhibition items may be displayed. A hospitality reception for the participants will be held the evening of March 17.

Timetable

Saturday, March 12—Arrive Shanghai (optional); activities open

Sunday, March 13—Arrive Shanghai (optional); activities open

Monday, March 14—Breakfast briefing for participants with Commercial Service Shanghai staff; High-tech industry park meetings and/or site tours

Tuesday, March 15—SEMI association market briefing in morning; Attend exhibition in afternoon

Wednesday, March 16—Meeting with Shanghai government authorities and/or site visits in morning; Attend exhibition in afternoon

Thursday, March 17—Individual one-on-one meetings; Hospitality reception in evening

Friday, March 18—Participants may wish to have follow-up business visits/appointments, or depart for the U.S.

Saturday, March 19—Participants will depart for the United States

V. Criteria for Participant Selection

• Relevance of the company's business line to mission's scope and goals;

• Potential for business in the China market;

• Timeliness of the company's signed and completed application and participation agreement, and payment of the mission participation fee of $2,250 for the first company representative, and $500 each for additional representatives;

• Provision of adequate information on the company's products and/or services and communication of the company's primary objectives to facilitate appropriate matching with potential business partners;

• Certification that the company meets Departmental guidelines for participation, including certification that the company's products and/or services are manufactured or produced in the United States or if manufactured/produced outside the of the United States, the product/services must be marketed under the name of the U.S. firm and have U.S. content of at least fifty-one percent of the value of the finished good or service.

A minimum of eight and a maximum of twenty participating companies will be recruited in an open and public manner, including publication in the Federal Register; posting on the Internet; press releases to general and trade media; direct mail and broadcast fax; and notices by industry trade associations and other multiplier groups, and at industry meetings, symposiums, conferences, and trade shows.

Any partisan political activities (including political contributions) of an applicant are entirely irrelevant to the selection process. The $2,250 trade mission participation fee does not include the cost of travel, lodging and meals. Recruitment will begin immediately and will close on January 21, 2005.

Contact

Ms. Marlene Ruffin, Global Trade Programs, U.S. & Foreign Commercial Service, Room 2107, U.S. Department of Commerce, Washington, DC 20230, Phone: (202) 482-0570; Fax: (202) 482-0115; e-mail: Marlene.Ruffin@mail.doc.gov.

Dated: December 2, 2004.
Nancy Hesser,
Industry Sector Manager, Office of Trade Event Programs.

[FR Doc. E4-3588 Filed 12-8-04; 8:45 am]

BILLING CODE 3510-DR-P[FEDREG][NOTICE][PREAMB][AGENCY TYPE="N"]COMMITTEE FOR THE IMPLEMENTATION OF TEXTILE AGREEMENTS[/AGENCY][SUBJECT]Adjustment of an Import Limit for Certain Cotton, Wool, Man-Made Fiber, Silk Blend and Other Vegetable Fiber Textiles and Textile Products Produced or Manufactured in the People's Republic of China[/SUBJECT][DATE]December 3, 2004.[/DATE][AGY][HED]AGENCY:[/HED][P]Committee for the Implementation of Textile Agreements (CITA).[/P][/AGY][ACT][HED]ACTION: [/HED][P]Issuing a directive to the Commissioner, Bureau of Customs and Border Protection adjusting a limit.[/P][/ACT][EFFDATE][HED]EFFECTIVE DATE:[/HED][P]December 9, 2004.[/P][/EFFDATE][FURINF][HED]FOR FURTHER INFORMATION CONTACT:[/HED][P]Ross Arnold, International Trade Specialist, Office of Textiles and Apparel, U.S. Department of Commerce, (202) 482-4212. For information on the quota status of this limit, refer to the Bureau of Customs and Border Protection website (http://www.cbp.gov), or call (202) 344-2650. For information on embargoes and quota re-openings, refer to the Office of Textiles and Apparel website at http://otexa.ita.doc.gov.[/P][/FURINF][/PREAMB][SUPLINF][HED]SUPPLEMENTARY INFORMATION:[/HED][AUTH][HED]Authority:[/HED][P]Section 204 of the Agricultural Act of 1956, as amended (7 U.S.C. 1854); Executive Order 11651 of March 3, 1972, as amended.[/P][/AUTH][P]The current limit for Group I is being increased for carryover.[/P][P]A description of the textile and apparel categories in terms of HTS numbers is available in the CORRELATION: Textile and Apparel Categories with the Harmonized Tariff Schedule of the United States (see [E T="04"]Federal Register[/E] notice 69 FR 4926, published on February 2, 2004). Also see 68 FR 65445 published on November 20, 2003.[/P][SIG][NAME]James C. Leonard III,[/NAME][TITLE]Chairman, Committee for the Implementation of Textile Agreements.[/TITLE][/SIG][EXTRACT][HD1]Committee for the Implementation of Textile Agreements[/HD1][HD3]December 3, 2004.[/HD3][FP-2]Commissioner,[/FP-2][FP-2][E T="03"]Bureau of Customs and Border Protection, Washington, DC 20229.[/E][/FP-2][P]Dear Commissioner: This directive amends, but does not cancel, the directive issued to you on November 14, 2003, by the Chairman, Committee for the Implementation of Textile Agreements. That directive concerns imports of certain cotton, wool, man-made fiber, silk blend and other vegetable fiber textiles and textile products, produced or manufactured in China and exported during the twelve-month period which began on January 1, 2004 and extends through December 31, 2004.[/P][P]Effective on December 9, 2004, you are directed to increase the limit for Group I, as provided for under the Uruguay Round Agreement on Textiles and Clothing:[/P][GPOTABLE COLS="2" OPTS="L2,i1" CDEF="s78,r80"][BOXHD][CHED H="1"]Category[/CHED][CHED H="1"]Adjusted twelve-month limit [SU]1[/SU][/CHED][/BOXHD][ROW][ENT I="11"]Group I[/ENT][ENT] [/ENT][/ROW][ROW][ENT I="22"]200, 218, 219, 226, 237, 239pt. [SU]2[/SU], 300/301, 313-315, 317/326, 331pt. [SU]3[/SU], 333-336, 338/339, 340-342, 345, 347/348, 351, 352, 359-C [SU]4[/SU], 359-V [SU]5[/SU], 360-363, 410, 433-436, 438, 440, 442-444, 445/446, 447, 448, 611, 613-615, 617, 631pt. [SU]6[/SU], 633-636, 638/639, 640-643, 644, 645/646, 647, 648, 651, 652, 659-C [SU]7[/SU], 659-H [SU]8[/SU], 659-S [SU]9[/SU], 666pt. [SU]10[/SU], 845 and 846, as a group.[/ENT][ENT]1,218,629,752 square meters equivalent.[/ENT][/ROW][TNOTE][SU]1[/SU] The limit has not been adjusted to account for any imports exported after December 31, 2003.[/TNOTE][TNOTE][SU]2[/SU] Category 239pt.: only HTS number 6209.20.5040 (diapers).[/TNOTE][TNOTE][SU]3[/SU] Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510.[/TNOTE][TNOTE][SU]4[/SU] Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010.[/TNOTE][TNOTE][SU]5[/SU] Category 359-V: only HTS numbers 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070.[/TNOTE][TNOTE][SU]6[/SU] Category 631pt.: all HTS numbers except 6116.10.1730, 6116.10.4820, 6116.10.5520, 6116.10.7520, 6116.93.8800, 6116.93.9400, 6116.99.4800, 6116.99.5400 and 6116.99.9530.[/TNOTE][TNOTE][SU]7[/SU] Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.[/TNOTE][TNOTE][SU]8[/SU] Category 659-H: only HTS numbers 6502.00.9030, 6504.00.9015, 6504.00.9060, 6505.90.5090, 6505.90.6090, 6505.90.7090 and 6505.90.8090.[/TNOTE][TNOTE][SU]9[/SU] Category 659-S: only HTS numbers 6112.31.0010, 6112.31.0020, 6112.41.0010, 6112.41.0020, 6112.41.0030, 6112.41.0040, 6211.11.1010, 6211.11.1020, 6211.12.1010 and 6211.12.1020. [/TNOTE][TNOTE][SU]10[/SU] Category 666pt.: all HTS numbers except 5805.00.4010, 6301.10.0000, 6301.40.0010, 6301.40.0020, 6301.90.0010, 6302.53.0010, 6302.53.0020, 6302.53.0030, 6302.93.1000, 6302.93.2000, 6303.12.0000, 6303.19.0010, 6303.92.1000, 6303.92.2010, 6303.92.2020, 6303.99.0010, 6304.11.2000, 6304.19.1500, 6304.19.2000, 6304.91.0040, 6304.93.0000, 6304.99.6020, 6307.90.9884, 9404.90.8522 and 9404.90.9522.[/TNOTE][/GPOTABLE][P]The Committee for the Implementation of Textile Agreements has determined that this action falls within the foreign affairs exception to the rulemaking provisions of 5 U.S.C. 553(a)(1).[/P][P]Sincerely,[/P][FP]James C. Leonard III,[/FP][FP]Chairman, Committee for the Implementation of Textile Agreements.[/FP][/EXTRACT][/SUPLINF][/FRDOC][FRDOC][FR Doc.E4-3589 Filed 12-8-04; 8:45 am][BILCOD]BILLING CODE 3510-DS-S[?USGPO Galley End:?]